DEPARTMENT OF THE INTERIOR

Fish and Wildlife Service

50 CFR Part 29

[Docket No. FWS-HQ-NWRS-2022-0106; FXRS12610900000-212-FF09R20000]

RIN 1018-BG78

National Wildlife Refuge System; Biological Integrity, Diversity, and Environmental Health; Extension of Comment Period

AGENCY: Fish and Wildlife Service, Interior.

ACTION: Proposed rule; extension of comment period.

SUMMARY: We, the U.S. Fish and Wildlife Service (Service), are extending the comment period on our February 2, 2024, proposed rule that proposes new regulations and updates to existing policy to ensure that the biological integrity, diversity, and environmental health (BIDEH) of the National Wildlife Refuge System (Refuge System) are maintained, and where appropriate, restored and enhanced, in accordance with the National Wildlife Refuge System Improvement Act of 1997. We are extending the comment period for 60 days to give all interested parties an additional opportunity to comment. Comments previously submitted need not be resubmitted as they are already incorporated into the public record and will be fully considered in our final determination.

DATES: The comment period on the proposed rule that published February 2, 2024, at 89 FR 7345, is extended. We will accept comments on the proposed rule and proposed revisions to the Service Manual chapter at 601 FW 3 that are received or postmarked on or before May 6, 2024.

ADDRESSES:

Document availability: This proposed rule and the draft Service Manual chapter 601 FW 3 are available at the Federal eRulemaking Portal: https://www.regulations.gov. In the Search box, enter FWS-HQ-NWRS-2022-0106, which is the docket number for this rulemaking. Then, click on the Search button. To view the Service Manual chapter, go to the Documents tab and then check the box for Supporting & Related Material.

Comment submission: You may submit comments on the proposed rule or the proposed revisions to 601 FW 3 by one of the following methods:

• Electronically: Go to the Federal eRulemaking Portal: https://www.regulations.gov. In the Search box, enter FWS-HQ-NWRS-2022-0106, which is the docket number for this rulemaking. Then, click on the Search button. On the resulting screen, find the correct document and submit a comment by clicking on “Comment.”

• By hard copy: Submit by U.S. mail or hand delivery to: Public Comments Processing, Attn: FWS-HQ-NWRS-2022-0106; U.S. Fish and Wildlife Service; 5275 Leesburg Pike, MS: PRB (JAO/3W); Falls Church, VA 22041-3803.

We will not accept email or faxes. We will post all comments on https://www.regulations.gov. This generally means that we will post any personal information you provide us (see Request for Comments, below, for more information).

FOR FURTHER INFORMATION CONTACT: Katherine Harrigan, (703) 358-2440, katherine_harrigan@fws.gov. Individuals in the United States who are deaf, deafblind, hard of hearing, or have a speech disability may dial 711 (TTY, TDD, or TeleBraille) to access telecommunications relay services. Individuals outside the United States should use the relay services offered within their country to make international calls to the point-of-contact in the United States. Please see Docket No. FWS-HQ-NWRS-2022-0106 on https://www.regulations.gov for a document that summarizes the February 2, 2024, proposed rule.

SUPPLEMENTARY INFORMATION:

Background

On February 2, 2024, we published a proposed rule (89 FR 7345) to promulgate new regulations at 50 CFR 29.3 and to update the existing Service Manual chapter at 601 FW 3 to ensure that the BIDEH of the Refuge System are maintained, and where appropriate, restored and enhanced. The proposed rule opened a 30-day public comment period, ending March 4, 2024. During the public comment period, we received requests to extend the comment period. With this document, we are extending the public comment period for our February 2, 2024, proposed rule by an additional 60 days (see DATES, above) to allow the public further opportunity to provide comments on the proposed rule.

For further background on BIDEH and information on the types of comments that would be helpful to us in promulgating this rulemaking action, please refer to the February 2, 2024, proposed rule (89 FR 7345).

Request for Comments

If you already submitted comments or information on the February 2, 2024, proposed rule (89 FR 7345), please do not resubmit them. Any such comments are incorporated as part of the public record of the rulemaking proceeding, and we will fully consider them in the preparation of any final rule.

You may submit your comments and materials concerning this proposed rule by one of the methods listed under ADDRESSES. We will not accept comments sent by email or fax or to an address not listed under ADDRESSES.

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Shannon Estenoz,
Assistant Secretary for Fish and Wildlife and Parks.

[FR Doc. 2024-04583 Filed 3-4-24; 8:45 am]

BILLING CODE 4333-15-P